DEPARTMENT OF HOMELAND SECURITY

Coast Guard

33 CFR Part 100

[CGD05-05-060]

RIN 1625-AA08

Special Local Regulations for Marine Events; Assateague Channel, Chincoteague, VA

AGENCY: Coast Guard, DHS.

ACTION: Notice of enforcement of regulation.

SUMMARY: The Coast Guard is implementing the special local regulations at 33 CFR 100.519 for the 2005 Annual Chincoteague Pony Swim, a marine event to be held July 27 and July 29, 2005, on the waters of Assateague Channel at Chincoteague, Virginia. These special local regulations are necessary to control vessel traffic due to the confined nature of the waterway and to provide for the safety of life on navigable waters during the event. The effect will be to restrict general navigation in the regulated area for the safety of spectators and vessels transiting the event area.

Enforcement Dates: 33 CFR 100.519 is effective from 5 a.m. July 27 to 4:30 p.m. on July 29, 2005.

FOR FURTHER INFORMATION CONTACT: Marine Events Coordinator, Commander, Coast Guard Group Eastern Shore, 3823 Main Street, Chincoteague, VA 23336-1809, and (757) 336-2891.

SUPPLEMENTARY INFORMATION: The Chincoteague Volunteer Fire Company, Inc., will sponsor the Annual Pony Swim on the waters of the Assateague Channel, near Chincoteague, Virginia from 5 a.m. to 4:30 p.m on 27 and 29 July, 2005. Approximately 75 ponies will cross Assateague Channel from Assateague Island to Chincoteague, VA. In order to ensure the safety of participants, spectators and transiting vessels, 33 CFR 100.519 will be enforced for the duration of the event. Under provisions of 33 CFR 100.519, vessels may not enter the regulated area without permission from the Coast Guard Patrol Commander. Because these restrictions will be in effect for a limited period, they should not result in a significant disruption of maritime traffic.

In addition to this notice, the maritime community will be provided extensive advance notification via the Local Notice to Mariners, and marine information broadcasts so mariners can adjust their plans accordingly.

Dated: June 1, 2005.
Sally Brice-O'Hara,
Rear Admiral, U.S. Coast Guard, Commander, Fifth Coast Guard District.

[FR Doc. 05-11443 Filed 6-8-05; 8:45 am]

BILLING CODE 4910-15-P